DEPARTMENT OF HEALTH AND HUMAN SERVICES

Centers for Disease Control and Prevention

[60Day-14-0739]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kim Lane, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Oral Health Management Information System (OMB No. 0920-0739, exp. 4/30/2014)—Revision—National Center for Chronic Disease Prevention and Public Health Promotion (NCDDPHP), Centers for Disease Control and Prevention (CDC).

Background and Brief Description

The CDC works with state health departments to improve the oral health of the nation. Targeted efforts include building and/or maintaining effective public health capacity for the implementation, evaluation, and dissemination of best practices in oral disease prevention and advancement of oral health. Through a cooperative agreement program (Program Announcement DP13-1307), CDC will provide funding to 21 states over a five-year period. New cooperative agreements went into effect in September 2013 and build on previous funded collaborations involving CDC and state programs. Of the 21 awardees, 3 are funded at the Basic level (Component 1, infrastructure) and 18 are funded at the Enhanced level (Component 2) which includes additional activities. The cooperative agreement funding will be used to strengthen state-based oral health infrastructure and capacity, implement and expand evidence-based interventions that increase community-clinical linkages, such as school-based dental sealant programs; increase and maintain environmental systems level changes that support healthy behaviors, such as community water fluoridation; implement strategies that improve the delivery of targeted clinical preventive services; and promote beneficial health systems changes. CDC funding will also help states reduce health disparities among high-risk populations including, but not limited to, those of lower socio-economic status, rural populations, Hispanic, African American and other ethnic groups.

CDC is currently approved to collect annual progress and activity reports from state-based oral health programs. An electronic reporting system has been in place since 2007 and was enhanced in 2008 to capture information about grantees' success stories and environmental scanning activities. The information collected in the management information system (MIS) improved CDC's ability to disseminate information about successful public health approaches that can be replicated or adapted for use in other states.

CDC plans to implement changes to the existing information collection. Through a Revision request, CDC will increase the number of awardees from 20 to 21; describe changes in the MIS platform and data elements that will align the monitoring and evaluation framework for oral health awardees with the framework used for a number of other programs in the National Center for Chronic Disease Prevention and Health Promotion (NCCDPHP); and implement a revised method of estimating burden. For awardees funded at the Basic level, the estimated burden for the initial data entry needed to populate the system is 6 hours. Thereafter, the estimated burden for system maintenance and annual reporting is 3 hours. For awardees funded at the Enhanced level, the estimated burden for the initial data entry needed to populate the system is 13 hours. Thereafter, the estimated burden for system maintenance and annual reporting is 9 hours. The revised method provides a more accurate depiction of burden per respondent in comparison to the method presented in previous requests for OMB approval, which was based on a long-term average burden per response. There is no change in the frequency of reporting. Reports will be submitted to CDC annually, but states may enter updates into the MIS at any time.

The MIS will provide a central repository of information, such as the work plans of the state oral health programs (their goals, objectives, performance milestones and indicators), as well as state oral health performance activities including programmatic and financial information. CDC will use the information collected to monitor awardee activities and to provide any technical assistance or follow-up support that may be needed.

Participation in the progress reporting system is a condition of award for funded state oral health programs. All information will be collected electronically and there are no costs to respondents other than their time. OMB approval is requested for three years.

Estimated Annualized Burden Hours
Type of respondents | Form name | Number of respondents | Number of responses per respondent | Average burden per response (in hours) | Total burden (in hours)
Program Awardees Basic Level | Initial MIS Population | 1 | 1 | 6 | 6
| Annual Progress Report | 3 | 1 | 3 | 9
Program Awardees Enhanced Level | Initial MIS Population | 6 | 1 | 13 | 78
| Annual Progress Report | 18 | 1 | 9 | 162
Total |  |  |  |  | 255

Kimberly S. Lane,
Deputy Director, Office of Scientific Integrity, Office of the Associate Director for Science, Office of the Director, Centers for Disease Control and Prevention.

[FR Doc. 2013-29515 Filed 12-10-13; 8:45 am]

BILLING CODE 4163-18-P